AGENCY FOR INTERNATIONAL DEVELOPMENT

Notice of Public Information Collections Being Reviewed by the U.S. Agency for International Development; Comments Requested

SUMMARY: U.S. Agency for International Development (USAID) invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before April 25, 2006.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION:

OMB No: OMB 0412-0555.

Form No.: N/A.

Title: Monthly Commodity Status Report/Monthly Recipient Status Report.

Type of Review: Renewal of Information Collection.

Purpose: The Monthly Commodity Status Report/Monthly Recipient Status Report (MCSR/MRSR) allows the Office of Food for Peace (FFP) to track exactly how commodities are distributed. The Cooperating Sponsor submits an Annual Estimate of Requirements (AER) each year. The AER is an estimate of how much food is needed for a specified number of beneficiaries in a particular country. The MCSR/MRSR allows FFP to track the commodities from the amount requested on the AER to what is actually distributed. The MCSR tracks the commodities for each program and the MRSR tracks the number of recipients or beneficiaries reached each month under each FFP program.

Annual Reporting Burden:

Respondents: 20.

Total annual responses: 240.

Total annual hours requested: 24.

Dated: February 15, 2006.
Joanne Paskar,
Chief, Information and Records Division, Office of Administrative Services, Bureau for Management.

[FR Doc. 06-1723 Filed 2-23-06; 8:45 am]

BILLING CODE 6116-01-M